DEPARTMENT OF COMMERCE

International Trade Administration

[A-351-832, A-122-840, A-428-832, A-560-815, A-201-830, A-841-805, A-274-804, A-823-812]

Notice of Postponement of Preliminary Antidumping Duty Determinations: Carbon and Certain Alloy Steel Wire Rod From Brazil, Canada, Germany, Indonesia, Mexico, Moldova, Trinidad and Tobago, and Ukraine

AGENCY: Import Administration, International Trade Administration, Department of Commerce.

EFFECTIVE DATE: January 28, 2002.

FOR FURTHER INFORMATION CONTACT: Charles Riggle (Brazil, Canada, Mexico, and Trinidad and Tobago), Robert James (Germany), Steve Bezirganian (Indonesia), Dana Mermelstein (Moldova), and James Doyle (Ukraine) at (202) 482-0650, (202) 482-0649, (202) 482-1131, (202) 482-1391, and (202) 482-0159, respectively, Import Administration, International Trade Administration, U.S. Department of Commerce, 14th Street and Constitution Avenue, NW, Washington, DC 20230.

Postponement of Preliminary Determinations

The Department of Commerce (the Department) is postponing the preliminary determinations in the antidumping duty investigations of Carbon and Certain Alloy Steel Wire Rod from Brazil, Canada, Germany, Indonesia, Mexico, Moldova, Trinidad and Tobago, and Ukraine.

The deadline for issuing the preliminary determinations in these investigations is now March 13, 2002.

On January 17, 2002, Co-Steel Raritan, Inc., GS Industries, Keystone Consolidated Industries, Inc., and North Star Steel Texas, Inc. (collectively, petitioners), requested a 30-day postponement of the preliminary determinations in these investigations, in accordance with section 351.205(b)(2) of the Department's regulations, to permit the Department to fully analyze and consider the information and argument presented by the parties to these investigations, and to permit issuance and receipt of supplemental questionnaires and responses by the Department in this preliminary phase of these proceedings. Therefore, pursuant to section 733(c)(1)(A) of the Tariff Act of 1930, as amended, and section 351.205(e) of the regulations, and absent any compelling reason to deny the request, the Department is postponing the deadline for issuing these determinations by 30 days (i.e., until March 13, 2002).

Dated: January 22, 2002.
Faryar Shirzad,
Assistant Secretary for Import Administration.

[FR Doc. 02-2034 Filed 1-25-02; 8:45 am]

BILLING CODE 3510-DS-P